Proclamation 8897 of November 1, 2012

National Alzheimer's Disease Awareness Month, 2012

By the President of the United States of America

A Proclamation

Every day, families across our country confront the tragic realities of Alzheimer's disease—an irreversible, fatal illness that robs men and women of their cherished memories and leads to progressive mental and physical impairments. Millions of individuals suffer from this debilitating ailment, and millions more shoulder profound emotional and financial burdens by serving as caregivers for their loved ones. As the number of older Americans grows in the coming years, Alzheimer's disease will continue to pose serious risks to our well-being—which is why it is essential we join together to address it today. During National Alzheimer's Disease Awareness Month, we stand with all those who have known the pain of this devastating illness, extend our support to Americans living with Alzheimer's, and press on toward promising new treatments.

This May, my Administration released the first National Plan to Address Alzheimer's Disease. The Plan lays out a bold vision for Alzheimer's prevention and treatment, calling for a comprehensive, collaborative approach that engages partners throughout the public, private, and non-profit sectors. As part of this effort, we have made historic investments in research and clinical trials that bring us closer to unlocking tomorrow's therapies. Through www.Alzheimers.gov, we are working to empower people living with Alzheimer's, their caregivers, and all Americans with information and resources about the disease. We are also providing training to health care providers to help them recognize the signs and symptoms of Alzheimer's disease and care for those who suffer from it. And to help ensure Americans living with Alzheimer's can access the care they need, we have worked to strengthen Medicare and expand choices for health insurance.

In homes and care facilities across our country, Alzheimer's disease continues to take a heartbreaking toll on millions of lives. As we honor the memory of those we have lost and lend our strength to those who face this ailment today, let us strive toward a brighter future.

NOW, THEREFORE, I, BARACK OBAMA, President of the United States of America, by virtue of the authority vested in me by the Constitution and the laws of the United States, do hereby proclaim November 2012 as National Alzheimer's Disease Awareness Month. I call upon the people of the United States to learn more about Alzheimer's disease and to offer their support to the individuals living with this disease and to their caregivers.

IN WITNESS WHEREOF, I have hereunto set my hand this first day of November, in the year of our Lord two thousand twelve, and of the Independence of the United States of America the two hundred and thirty-seventh.

[FR Doc. 2012-27196

Filed 11-5-12; 8:45 am]

Billing code 3295-F3